DEPARTMENT OF TRANSPORTATION

Federal Aviation Administration

[Docket No. FAA-2022-0580]

Agency Information Collection Activities: Requests for Comments; Clearance of Renewed Approval of Information Collection: Quality System Audit Feedback Report

AGENCY: Federal Aviation Administration (FAA), DOT.

ACTION: Notice and request for comments.

SUMMARY: In accordance with the Paperwork Reduction Act of 1995, FAA invites public comments about its intention to request the Office of Management and Budget (OMB) approval to renew an information collection. The information is collected from FAA production approval holders and associated facilities in the form of a feedback survey regarding the conduct of the Quality System Audit (QSA) recently conducted at their facility. The feedback is used by the FAA for continuous quality improvement of the Aircraft Certification Service's certificate management program.

DATES: Written comments should be submitted by July 12, 2022.

ADDRESSES: Please send written comments:

By Electronic Docket: www.regulations.gov (Enter docket number into search field).

By Mail: Scott Geddie, Manager—Compliance Systems, AIR-634, Aircraft Certification Service, Federal Aviation Administration, 6500 S. MacArthur Blvd., ARB Building Room 304, Oklahoma City, OK 73169.

FOR FURTHER INFORMATION CONTACT: Scott Geddie by email at: Scott.Geddie@faa.gov; phone: (405) 954-6897.

SUPPLEMENTARY INFORMATION:

Public Comments Invited: You are asked to comment on any aspect of this information collection, including (a) whether the proposed collection of information is necessary for FAA's performance; (b) the accuracy of the estimated burden; (c) ways for FAA to enhance the quality, utility, and clarity of the information collection; and (d) ways that the burden could be minimized without reducing the quality of the collected information. The agency will summarize and/or include your comments in the request for OMB's clearance of this information collection.

OMB Control Number: 2120-0605.

Title: Quality System Audit Feedback Report.

Form Numbers: FAA Form 8100-7.

Type of Review: Renewal of an information collection.

Background: In accordance with Executive Orders 12862 and 14058, and as part of the FAA and industry continuous improvement efforts for QSA activities, FAA utilizes a form for auditees to provide feedback to the FAA about the conduct of the QSA. FAA Order 8120.23, Certificate Management of Production Approval Holders, provides guidance on the QSA and related activities and discusses FAA Form 8100-7, QSA Customer Feedback Report. The FAA provides FAA Form 8100-7 to the facility being audited at the outset of the QSA. The FAA encourages completion of the form within 30 days of the QSA post-audit conference; however, completion of the form is not mandatory. The FAA considers any proposals for improvements to the QSA process in its pursuit for continuous improvement of the Aircraft Certification Service's certificate management of production approval holders. The form is collected electronically or via prepaid self-addressed envelope.

Respondents: Approximately 160 production approval holders and associated facilities.

Frequency: Feedback information is collected about 30 days after conclusion of the oversight activity. The feedback provided is voluntarily submitted by the audited facility on occasion which is predicated on their audit due date frequency.

Estimated Average Burden per Response: 30 minutes.

Estimated Total Annual Burden: 80 hours.

Issued in Oklahoma City, Oklahoma, on May 9, 2022.
Scott A. Geddie,
Manager, Compliance Systems, Systems Policy Branch, AIR-630, Policy and Innovation Division.

[FR Doc. 2022-10284 Filed 5-12-22; 8:45 am]

BILLING CODE 4910-13-P